DEPARTMENT OF ENERGY

Federal Energy Regulatory Commission

[Project No. 4093-031]

PK Ventures, Inc.; North Carolina; Notice Soliciting Applications

On April 30, 2010, PK Ventures, Inc. (licensee) filed a Notice of Intent (NOI) to file an application for a subsequent license for its Bynum Hydroelectric Project, No. 4093, pursuant to section 16.19(b) of the Commission's regulations.¹ On June 30, 2010, Commission staff noticed the NOI and approved the use of the traditional licensing process (TLP) to develop the license application. The existing license for Project No. 4093 expires on April 30, 2015.

¹ 18 CFR 16.19(b)(3) (2012).

The 600-kilowatt (kW) Bynum project is located on the Haw River, in Chatham County, North Carolina. No federal lands are affected.

The principal project works consist of: (1) A 750-foot-long, 10-foot-high stone masonry dam with an uncontrolled spillway and a 150-foot-long non-overflow section; (2) a 2000-foot-long canal, between 25 and 40 feet wide; (3) a powerhouse separate from the dam containing a 600-kW generating unit; (4) a reservoir with a surface area of 20 acres at normal pool elevation of 315 feet mean sea level and a gross storage capacity of 100 acre-feet; and (5) appurtenant facilities. The project operates run-of-river and generates and estimated average of 2,461,000 kW hours a year.

Pursuant to section 16.20(c) of the Commission's regulations, an existing licensee with a minor license not subject to sections 14 and 15 of the Federal Power Act must file an application for a subsequent license at least 24 months prior to the expiration of the current license.² PK Ventures has not filed an application for a subsequent license for the Bynum project.

² 18 CFR 16.20(c) (2012).

Pursuant to section 16.24(b)(2) of the Commission's regulations, an existing licensee that fails to file a license application pursuant to section 16.20(b) shall be deemed to have filed a notice of intent indicating that it does not intend to file an application for subsequent license. Therefore, pursuant to section 16.25 of the Commission's regulations, interested parties have 90 days from the date of this notice to file a NOI to file an application for a subsequent license. An application for subsequent license or exemption for the Bynum Project (No. 4093) must be filed within 18 months of the date of filing the NOI. The existing licensee is prohibited from filing an application either individually or in combination with other entities.³

³ 18 CFR 16.24(b)(2) (2012)

Questions concerning this notice should be directed to Sean Murphy at (202) 502-6145 or sean.murphy@ferc.gov.

Dated: June 19, 2013.
Kimberly D. Bose,
Secretary.

[FR Doc. 2013-15184 Filed 6-25-13; 8:45 am]

BILLING CODE 6717-01-P